VALLES CALDERA TRUST

National Environmental Policy Act (NEPA) Procedures of the Valles Caldera Trust for the Valles Caldera National Preserve

AGENCY: Valles Caldera Trust.

ACTION: Notice of final procedures to implement NEPA.

SUMMARY: The Board of Trustees of the Valles Caldera Trust adopts these final NEPA procedures, hereafter referred to as “procedures”, for implementation of National Environmental Policy Act (NEPA) and to aid in the overall management and public use of the Valles Caldera National Preserve. The procedures for the Trust are intended to supplement federal NEPA procedures of the Council on Environmental Quality (CEQ) found at 40 CFR 1500 through 1508 and adopted by the Board of Trustees on August 8, 2001. The Trust's procedures are to be maintained by the Trust and are readily available to the public. It is anticipated that as experience is gained in the implementation of the Trust's procedures, appropriate improvements will be proposed. The procedures will apply to the fullest extent practicable to analyses and documents by the Board of Trustees of the Valles Caldera Trust.

EFFECTIVE DATE: These procedures are effective on July 17, 2003.

ADDRESSES: Gary Ziehe, Executive Director, Valles Caldera Trust, 2201 Trinity Drive, Suite C, Los Alamos, NM 87544. email: nepaprocedures@vallescaldera.gov.

FOR FURTHER INFORMATION CONTACT: Gary Ziehe, Executive Director, Valles Caldera Trust, 2201 Trinity Drive, Suite C, Los Alamos, NM 87544. Telephone: (505) 661-3333.

SUPPLEMENTARY INFORMATION:

I. Introduction

These NEPA procedures add direction to guide employees of the Valles Caldera Trust regarding requirements of the National Environmental Policy Act. The Council on Environmental Quality does not direct agencies to prepare a NEPA document before establishing agency procedures that supplement the CEQ regulations for implementing NEPA. Agency NEPA procedures are internal procedural guidance intended to assist agencies in the fulfillment of agency responsibilities under NEPA, but are not the agency's final determination of what level of NEPA analysis is required for a particular proposed action. The requirements for establishing agency NEPA procedures are set forth at 40 CFR 1505.1 and 1507.3(b). The Valles Caldera Trust has provided an opportunity for public review and has consulted with the Council on Environmental Quality during the development of these procedures. The determination that establishing NEPA procedures does not require NEPA analysis and documentation has been upheld in Heartwood, Inc. v. U.S. Forest Service, 73 F. Supp. 2d 962, 947, 954-55 (7th Cir. 2000).

Proposed NEPA procedures for the Valles Caldera Trust were published in the Federal Register of February 11, 2003 (Vol. 68, No. 28). Comments were received from individuals and the Valles Caldera Coalition, Pueblo of Jemez, and Forest Guardians. The comments proved to be very helpful in identifying improvements in the proposed procedures. In general, requests were made to clarify the relationship of the Board of Trustees and the designation of the person responsible for the planning and implementation of activities within the Preserve. Requests were made to improve the description of the comprehensive program for management of the Preserve and the relationship of long-term guidance, the consideration and selection of specific stewardship actions, and the monitoring of results. Also, many reviewers requested improvements in the use of terms in the proposed procedures and clarification of the conditions that warrant use of a categorical exclusion from the preparation of an environmental document. It is apparent that considerable thought and effort was devoted to review of the proposed procedures and comment for their improvement. A 16-page summary of the comments received and response by the Valles Caldera Trust is available at the Trust Office in Los Alamos, NM and at the Trust's web site.

Reviewers requested that the procedures include a description of the Trust. The Valles Caldera Preservation Act, Public Law 106-248, (the Act) created the Valles Caldera Trust (the Trust), a wholly owned government corporation, to manage the newly created Valles Caldera National Preserve, the tract of land previously referred to as the Baca Ranch. The Trust assumed responsibility for managing the lands and resources of the Preserve on August 2, 2002. The Preserve includes approximately 89,000 acres in north-central New Mexico, comprising the majority of the 1860 land grant known as the Baca Location No. 1. A nine-member Board of Trustees governs the Trust and the Executive Director oversees management of the Trust and the Preserve.

The Act established the Preserve to protect and preserve the scientific, scenic, geologic, watershed, fish, wildlife, historic, cultural, and recreational values of the Preserve, and to provide for multiple use and sustained yield of renewable resources within the Preserve. Under the Act, the Trust operates the Preserve as a working ranch and is to plan to achieve a financially, self-sustaining operation within 15 years, consistent with the purposes of the Act.

II. Legislative History of the Trust

(a) A unique experiment in managing public land. The Valles Caldera National Preserve is a unique experiment in the administration of public land. Public Law 106-248 authorizing creation of the Preserve established several findings and purposes for the management of the Preserve.

Congress finds that:

(1) The Baca ranch comprises most of the Valles Caldera in central New Mexico, and constitutes a unique landmass, with significant scientific, cultural, historic, recreational, ecological, wildlife, fisheries, and productive values;

(2) The Valles Caldera is a large resurgent lava dome with potential geothermal activity;

(3) The land comprising the Baca ranch was originally granted to the heirs of Don Luis Maria Cabeza de Vaca in 1860;

(4) Historical evidence, in the form of old logging camps and other artifacts, and the history of territorial New Mexico indicate the importance of this land over many generations for domesticated livestock production and timber supply;

(5) The careful husbandry of the Baca ranch by the current owners, including selective timbering, limited grazing and hunting, and the use of prescribed fire, have preserved a mix of healthy range and timber land with significant species diversity, thereby serving as a model for sustainable land development and use;

(6) The Baca ranch's natural beauty and abundant resources, and its proximity to large municipal populations, could provide numerous recreational opportunities for hiking, fishing, camping, cross-country skiing, and hunting;

(7) The Forest Service documented the scenic and natural values of the Baca ranch in its 1993 study entitled “Report on the Study of the Baca Location No. 1, Santa Fe National Forest, New Mexico”, as directed by Public Law 101-556;

(8) The Baca ranch can be protected for current and future generations by continued operation as a working ranch under a unique management regime which would protect the land and resource values of the property and surrounding ecosystem while allowing and providing for the ranch to eventually become financially self-sustaining;

(9) The current owners have indicated that they wish to sell the Baca ranch, creating an opportunity for Federal acquisition and public access and enjoyment of these lands;

(10) Certain features on the Baca ranch have historical and religious significance to Native Americans which can be preserved and protected through Federal acquisition of the property;

(11) The unique nature of the Valles Caldera and the potential uses of its resources with different resulting impacts warrant a management regime uniquely capable of developing an operational program for appropriate preservation and development of the land and resources of the Baca ranch in the interest of the public;

(12) An experimental management regime should be provided by the establishment of a Trust capable of using new methods of public land management that may prove to be cost-effective and environmentally sensitive; and

(13) The Secretary may promote more efficient management of the Valles Caldera and the watershed of the Santa Clara Creek through the assignment of purchase rights of such watershed to the Pueblo of Santa Clara.

(b) Purposes for management of the Preserve. The Act established five purposes for the management of the Preserve:

(1) To authorize Federal acquisition of the Baca ranch;

(2) To protect and preserve for future generations the scientific, scenic, historic, and natural values of the Baca ranch, including rivers and ecosystems and archaeological, geological, and cultural resources;

(3) To provide opportunities for public recreation;

(4) To establish a demonstration area for an experimental management regime adapted to this unique property which incorporates elements of public and private administration in order to promote long-term financial sustainability consistent with the other purposes enumerated in this subsection; and

(5) To provide for sustained yield management of Baca ranch for timber production and domesticated livestock grazing insofar as is consistent with the other purposes stated in the Act.

(c) Management of the Preserve. A nine-member Board of Trustees appointed by the President is to oversee management of the Preserve and establish operating principles. The Trust is a wholly owned government corporation known as the Valles Caldera Trust. The Trust is empowered to conduct business in the State of New Mexico and elsewhere in the United States in furtherance of its corporate purposes and possess all necessary and proper powers for the exercise of the authorities vested in it. The Trust is to:

(1) Provide management and administrative services for the Preserve;

(2) Establish and implement management policies which will best achieve the purposes and requirements of this title;

(3) Receive and collect funds from private and public sources and to make dispositions in support of the management and administration of the Preserve; and

(4) Cooperate with Federal, State, and local governmental units, and with Indian tribes and Pueblos, to further the purposes for which the Preserve was established.

III. Procedures for Management of the Preserve

In furthering the intent of Congress and to clarify the operating principles of the Trust, it is necessary and appropriate to establish procedures for the consideration of pending management actions of the Trust and implementation of the NEPA. The following procedures are intended to effectively and efficiently implement the principles of the NEPA and create a collaborative working relationship among the Trust and tribal governments, citizens, and federal, state, and local authorities. A section-by-section description of the procedures follows along with a brief account of the changes made in the proposed NEPA procedures based on the comments from reviewers.

100 Title. This section displays the title of the procedures with its numbering system beginning at 100.

100.1 Authority. This section lists the federal authorities from which the procedures are developed.

100.2 Purpose. The purpose of the procedures is displayed in paragraphs (a) to (d). It is important to note that the procedures are intended to amplify Congressional intent to provide innovative ways to implement effective and efficient management of the Trust and the Preserve. The term “program” is removed from the procedures to more accurately describe Congressional intent and to reduce confusion in describing the overall management of the Preserve. The procedures are intended to integrate NEPA with the planning and decisionmaking of the Trust, make NEPA more useful to decisionmakers and the public, and ensure that environmental information is readily available before, during, and after decisions are made. The procedures are intended to supplement government-wide NEPA procedures found at 40 CFR 1500-1508. The government-wide, NEPA procedures were adopted by the Board of Trustees on August 8, 2001.

101 Integration of NEPA with Planning and Decisionmaking of the Trust. Sections 101.1 to 101.10 describe the process for integrating NEPA with the planning and decisionmaking of the Trust. Each of the sections, 101.1 to 101.10, of the procedures is described below:

101.1 Purposes and Principles. Paragraph (a) references the findings of Congress regarding the purposes and principles for management of the Preserve. The comprehensive management of the Preserve called for in the enabling legislation is achieved through strategic guidance and stewardship actions authorized by the Trust's Board of Trustees. The term “strategic guidance” is added to the description of how comprehensive management of the Preserve is achieved. Several reviewers asked for clarification of the roles of the Board of Trustees and the Responsible Official as described in the proposed procedures. The following sections of the procedures describe the overall management of the Preserve which is to be achieved through the establishment of strategic guidance by the Board of Trustees and stewardship actions undertaken by the Responsible Official, the person responsible for planning and implementing stewardship actions as authorized by the Board of Trustees.

Paragraph (b) emphasizes the vital role of citizens in the overall management, use, and enjoyment of the Preserve. As described in the revised section 101.7, Public Involvement, and throughout the procedures, citizens are encouraged to participate with the Trust in the overall management of the Preserve.

The fundamental role of monitoring and the consideration of new information among the Trust and the public are emphasized in (c). These activities are important in adapting on-going and future stewardship actions to changing conditions. The term “on-going” is added to emphasize that monitoring results are to be used to adjust stewardship actions that are underway as well as those that may take place in the future.

Paragraph (d) presents the 10 guiding principles for management of the Preserve adopted by the Board of Trustees on December 13, 2001. These 10 guiding principles are referred to as “management principles” in the procedures, and are intended to guide the management of the Preserve. It is noted that the whole of the Preserve is greater than the sum of its parts. Stewardship actions within the Preserve are intended to complement the entire Preserve and enhance the unique character of the Preserve envisioned by the Congress.

101.2 Terminology. This section of the procedures lists 17 terms and their meanings as they are used throughout the text. It is helpful to review these terms and their meanings to promote their consistent use and interpretation by the Board, staff of the Trust, and citizens involved in the planning and decisionmaking of Trust. The following improvements to the proposed procedures are made to respond to public comments and to clarify meanings of terms used in the procedures:

Comprehensive management program is removed from the terminology section. The description of the comprehensive management of the Preserve is revised in section 101.10, Comprehensive Management of the Preserve, and is no longer needed in the terminology section.

Adaptive management is added to the procedures by the following text. “Adaptive management” means adjusting stewardship actions or strategic guidance based on knowledge gained from new information, experience, experimentation, and monitoring results, and is the preferred method for managing complex natural systems.

Goal. This term is improved by replacing the term “Responsible Official” with “Trust” to more accurately state that the achievement of a goal is sought by the entire Trust in addition to the Responsible Official.

Human environment is added to the procedures by the following text. “Human environment” has the same meaning as that described in the CEQ regulations for implementing the procedural provisions of the NEPA. “Human Environment” shall be interpreted comprehensively to include the natural and physical environment and the relationship of people with that environment. (See definition of “effects” in 40 CFR 1508.8.) This means that economic or social effects are not intended by themselves to require preparation of an environmental impact statement. When an environmental impact statement is prepared and economic or social and natural or physical environmental effects are interrelated, then the environmental impact statement will discuss all of these effects on the human environment.

Implementing decision. For this term, as elsewhere in the text of the procedures, the phrase, “implement and adopt,” is revised by removing the phrase “and adopt.” This is done to clarify that the Responsible Official is the person who makes an implementing decision. The Board of Trustees reserves the authority to adopt or amend strategic guidance.

Purpose and need. The phrase “and the goal(s) sought” is added to the end of the meaning of “purpose and need”. This addition is intended to clarify that the concise explanation of why a stewardship action is being proposed should include the identification of the one or more goals sought by proposing a stewardship action.

Responsible Official. Several reviewers commented that the meaning of the term was unclear in the proposed procedures. The term is rewritten to read, “Responsible Official” means the Executive Director of the Trust and, consistent with delegated authority, the Preserve Manager and other Preserve staff, or the Chair of the Board of Trustees if specifically designated by the Board of Trustees. This change in the meaning of the term is intended to clarify that the person responsible for a stewardship action is the Executive Director of the Trust or staff operating within their delegated authorities. Also, if the Board of Trustees chooses to propose a stewardship action and, after appropriate environmental review and documentation, make an implementing decision, then they must specifically designate the Chair of the Board as the Responsible Official for purposes of the stewardship action under consideration.

Stewardship action. The term is rewritten to read, “Stewardship action” means an activity or group of activities consisting of at least one goal, objective, and performance requirement proposed or implemented by the Responsible Official that may:

(1) Guide or prescribe alternative uses of the Preserve upon which future implementing decisions will be based; or

(2) Utilize or manage the resources of the Preserve.

This revision of the meaning of the term is made to clarify that only the Responsible Official may propose a stewardship action. Several reviewers discussed confusion regarding the identification of the Responsible Official and his or her role in proposing, evaluating, or implementing a stewardship action. In the proposed procedures, the Board of Trustees could also propose and adopt a stewardship action. As described above in the meaning of “Responsible Official”, if the Board of Trustees chooses to propose a Stewardship action, the Board may do so only by specifically designating the Chair of the Board as the Responsible Official.

Stewardship register. The phrase, “including applicable environmental documents” is added to the meaning of “stewardship register”. The term “and appended” is removed here and elsewhere in the text of the procedures. This change is made to clarify that the appropriate environmental documents should be included with the stewardship register rather than appended. The stewardship register is to be integrated with the appropriate environmental document. A reviewer would expect to see a stewardship register along with its associated environmental documents. As noted in the text for the sample stewardship register in Exhibit I, if an environmental document is not associated with a stewardship action, the stewardship register must identify the applicable category for exclusion of such a document.

Strategic guidance. This term is modified from the proposed procedures by the elimination of (c), “one or more stewardship actions.” This change is made to clarify, as described above regarding stewardship actions, that only the Responsible Office may propose or implement a stewardship action. Item (b) is improved by specifying that the Trust may direct the Responsible Official to consider one or more stewardship actions or an administrative matter related to the operation of the Preserve. From the comments of reviews, it appeared that the proposed procedures were confusing regarding the role of the Board of Trustees in directing that a particular stewardship action should undergo consideration by the Responsible Official. This change in the text is intended to clarify the roles of the Board of Trustees and the Responsible Official.

Summary of Monitored Outcomes. This term is replaced with the term “State of the Preserve” to better communicate the meaning of the evaluations that are anticipated to take place prior to removing, amending, continuing, or adopting one or more of the goals of strategic guidance. The role of the Board of Trustees in establishing strategic guidance is clarified in the language describing the comprehensive management of the Preserve in section 101.10.

101.3 Overall Procedures. In paragraphs (a) to (e) of this section, the overall procedures for integrating NEPA within the planning and decisionmaking of the Trust are presented. Paragraph (a) points out that comprehensive management of the Preserve is achieved through strategic guidance adopted by the Board and through the selection and implementation of appropriate stewardship actions. As described in section 101.2, Terminology, stewardship actions may be site-specific actions as well as broader, planning-related goals, objectives, and performance requirements that set the stage for future implementing decisions. It is the intent of the Trust to maintain open and collaborative working relationships with all government and private parties interested in the Preserve. Positive working relationships are envisioned during the consideration, implementation, and monitoring of stewardship actions. The paragraph concludes with a statement that the information regarding a stewardship action is available to the public in accordance with applicable law.

Paragraph (b) establishes a standard that a clear statement of the purpose and need for each stewardship action must accompany the proposal for action by the Responsible Official. The term “consistent with strategic guidance” is added to the requirements of the purpose and need statement. The addition of this term is intended to ensure that each proposed stewardship action conforms to the strategic guidance established by the Board of Trustees. Each proposed stewardship action must have a clear explanation of why it is necessary. In addition, a proposed stewardship action must be consistent with the identified goals sought through its implementation.

Paragraph (c) states that the Responsible Official, based on public comments or other reasons, may prepare an environmental document to improve understanding of a proposal prior to making an implementing decision. For many stewardship actions, an environmental document is required. The requirements related to the evaluation of stewardship actions and the preparation of the appropriate environmental documents are described in section 101.5.

It is stated in paragraph (c) that the outcomes of implemented stewardship actions are monitored to provide information to aid future choices, consistent with adaptive management. Based on comments received, the meaning of “adaptive management,” is added to section 101.2, Terminology. As noted in the proposed procedures, “adaptive management” is the preferred means for managing complex natural systems, builds on learning based on common sense, experience, experimentation, and monitoring results. Practices within the Preserve are to be adjusted based on what is learned. It is the intent of the Trust to respond positively to change. Through adaptive management, the Trust's focus is on accelerated learning and adapting through partnerships based on finding common ground where managers, scientists, and citizens learn together to create and maintain sustainable ecosystems. Learning in the achievement of sustainable ecosystems requires an array of strategies and partnerships of managers and citizens working directly with scientists to provide a holistic view of desired conditions and positive, creative responses to change. Through adaptive management, the Trust will provide for multiple use and sustained yield of renewable resources of the Preserve.

Paragraph (d) is revised to emphasize that the Trust is to prepare a “State of the Preserve” at least once every five years after August 2, 2002, the date the Trust assumed management responsibility of the Preserve. As noted in section 101.2, Terminology, the term “State of the Preserve” is described. The requirement to prepare a concise account of the systematic review of monitored outcomes along with review of other information is intended to provide a technical and scientific basis for the comprehensive management of the Preserve and aid in the consideration of the goals within strategic guidance that may be adopted by the Board of Trustees. As described in the revised section 101.10, The Comprehensive Management of the Preserve, the State of the Preserve is intended to provide valuable information to the Board of Trustees as they consider amending, eliminating, continuing, or adding to the goals of strategic guidance. A current State of the Preserve must be reviewed before the Board may act regarding a goal of strategic guidance. This change in the procedures is made based upon requests to strengthen the role of the Board of Trustees in establishing overall direction and to ensure that in the future the Board does not change its direction without being fully informed regarding the overall condition of the Preserve and the evolving natural and social environments related to the Preserve.

Section 101.3 of the procedures concludes with paragraph (e) that describes the on-going, adaptive management regime of the Preserve. The overall procedures are intended to efficiently and effectively achieve the goals of the Trust and NEPA and eliminate unnecessary or redundant paperwork.

101.4 Proposing a Stewardship Action and Following its Progress. Paragraphs (a) to (d) describe how a stewardship action is proposed for consideration and the requirements that must be followed. Paragraph (a) states that the Responsible Official may propose a stewardship action at any time. However, each stewardship action must be accompanied by a clear statement of its purpose and need and recorded in a stewardship register. The required items of a stewardship register are displayed in Exhibit I. If the Board approves consideration of a proposed stewardship action, the stewardship register will be made available to the public through appropriate media as soon as practicable and throughout the process, leading either to termination of the proposal or to an implementing decision and subsequent monitoring of outcomes. The stewardship registers will also, as relevant, contain information regarding completion of stewardship actions and the monitoring of one or more of the outcomes.

Paragraph (b) states that the public and government officials have many opportunities to review the activities of the Trust. Based on several comments, the text is revised in sentence two to read. “The Responsible Official will request public review and comment on a proposed stewardship action, its purpose and need, alternatives, and/or anticipated outcomes as described in 101.7.” If comments are requested and received within the dates specified, the Responsible Official must consider the comments before making an implementing decision. It is the intent of the Trust to maintain open and collaborative working relationships. Comments from the public or government officials may include a wide variety of media including, but not limited to, personal discussions, letters, photos, or electronic communications.

The procedures for amending and keeping the stewardship registers current are described in paragraph (c). The Trust staff responsible for any entry in a stewardship register must record their name and the date of entry to provide an accurate record. The Trust staff may prepare additional documents or electronic media to manage activities associated with one or more stewardship actions and other matters related to administration of the Preserve. These additional documents are intended to aid in the planning, execution, and general management of Trust activities.

Section 101.4 concludes with paragraph (d) that states that the Executive Director of the Trust is responsible for the overall review of agency NEPA compliance and preparation of any necessary environmental documents.

101.5 Environmental Evaluation and Documentation. The title and text of this section is revised from “Evaluating a Stewardship Action” to more accurately describe the requirements of this section and the three following sections, 101.51 to 101.53, which describe required environmental evaluation and documentation. Paragraph (a) is revised to read. “An environmental document must be prepared and considered before the Responsible Official can make an implementing decision unless a stewardship action is within a categorical exclusion listed in 101.6.”

Paragraph (b) points out that the Responsible Official may, in the absence of extraordinary circumstances, make an implementing decision without the preparation of an environmental document (an environmental assessment, finding of no significant impact, notice of intent, or environmental impact statement) for proposed stewardship actions that do not individually or cumulatively have a significant effect on the human environment.

Because the requirements in (c) of the proposed procedures are included in the revised (a), (c) is no longer needed and is removed.

The following sections, 101.51 to 101.53, describe the environmental impact statement, environmental assessment, and finding of no significant impact. Procedures for the preparation of a notice of intent to prepare an environmental impact statement are described in CEQ regulations at 40 CFR 1501.7.

101.51 Environmental Impact Statement. This section in paragraphs (a), (b), and (c) describes when the Responsible Official must prepare an environmental impact statement before making an implementing decision for a proposed stewardship action. In paragraph (a) the content and procedures for the preparation of an environmental impact statement are referenced to 40 CFR 1502. An environmental impact statement must be prepared if the outcome of a proposed stewardship action is known or suspected to create a significant effect on the human environment or if it is otherwise desirable to prepare a statement. If the Responsible Official knows or suspects that implementation of a stewardship action may have a significant impact on the human environment, an environmental impact statement must be prepared.

Paragraph (b) states that an implementing decision for one or more stewardship actions described in an environmental impact statement must be documented in a record of decision. Except for special circumstances outlined in CEQ regulations at 40 CFR 1506.10(d), 1506.11, and 1502.9(c), a record of decision cannot be signed by the Responsible Official until 30 after the final environmental impact statement is made available to the public by the Environmental Protection Agency. The environmental impact statement and record of decision is integrated with one or more appropriate stewardship registers. The term, “integrated with” replaces “appended to” of the proposed procedures to more accurately communicate that a stewardship register is to be a part of the appropriate environmental document.

Paragraph (c) is revised to simplify the examples of when an environmental impact statement is normally prepared. The revised text reads. “An environmental impact statement is normally required for the following implementing decisions:

(1) One or more stewardship actions that may be significant as described in 40 CFR 1508.27. Examples include, but are not limited to, long-term programs or plans for:

(A) Management of livestock grazing;

(B) Transportation;

(C) Management of forests and harvest of forest-related products; and

(D) Management of public recreation.

(2) Construction and operation of a visitor center with associated public access to the Preserve.

The implementing decisions for long-term plans described in (c)(1) are typically referred to as “planning-related decisions”. These implementing decisions typically do not undertake specific actions on the ground, except for those that may modify one or more on-going stewardship actions. However, they are often critical choices in setting the stage, the expectations and bounds, for future stewardship actions and are intended to follow the depiction of federal actions that guide or prescribe alternative uses of federal resources upon which future agency action will be based as described in CEQ regulations at 40 CFR 1508.18(b)(2). Many people regard these planning-related decisions and their potentially significant consequences as paramount factors in the effective stewardship of natural resources. It is appropriate to consider the effects of these decisions before they are implemented.

101.52 Environmental Assessment. This section, in paragraphs (a) through (d), describes the format for preparation of an environmental assessment. Paragraph (e) lists the types of implementing decisions that are normally accompanied by environmental assessments prepared to aid their consideration by the Responsible Official and the public.

Paragraph (a) states that an environmental assessment is prepared by the Responsible Official to aid in determining whether to prepare an environmental impact statement, to prepare a finding of no significant impact, to otherwise aid compliance with NEPA, or to facilitate preparation of an environmental impact statement when one is necessary. This is an important aspect of NEPA procedures that is often overlooked or not well understood. The environmental assessment is a systematic means to review the consequences of a proposed stewardship action, consider reasonable alternatives to the proposal, and evaluate the overall consequences. Often, through public comment, dialog, and study of the proposal, substantial improvements in the proposal can be identified.

Paragraph (b) describes a very useful method to combine documents to reduce unwanted paperwork and improve overall effectiveness. An environmental assessment is combined with a stewardship register to create a concise document. The environmental analysis of a proposed stewardship action and alternatives is integrated with the applicable stewardship register as a combined document (40 CFR 1506.4).

The following paragraph, (c), describes a very important principle guiding the environmental review of a proposal. The purpose of the integrated information is to study, develop, and describe appropriate alternatives to recommended courses of action in any proposal, which involves unresolved conflicts concerning alternative uses of available resources. The preceding sentence, similar to section 102 (E) of NEPA, is the basis for developing alternative means to meet the identified purpose and need for a proposed stewardship action. It is anticipated that the public will play a vital role in aiding the Trust in identifying reasonable alternatives to proposals.

Paragraph (d) states that the combined document includes a brief discussion of the purpose and need for the proposal, of alternatives, of the environmental impacts of the proposal and alternatives, and a listing of agencies and persons consulted. It is anticipated that the integration of these four items within the stewardship register will provide a very efficient and effective means to accomplish and record appropriate environmental reviews.

Section 101.52 concludes with paragraph (e) that describes the types of implementing decisions that are normally accompanied by an environmental assessment. A reviewer requested that the term, “incidental ground disturbance” be eliminated or defined in the text of the proposed procedures at (e)(1). The sentence at (e)(1) is replaced by following: “Establishing or substantively revising a program or policy for the permitting of seasonal or short-term backcountry recreation or special use actions which could potentially create minor ground disturbance.”

101.53 Finding of No Significant Impact. This section of the procedures in paragraphs (a) and (b) describes the preparation and documentation of a finding that, based on the information in an environmental assessment, the Responsible Official determines that the proposed stewardship action will not have a significant impact on the human environment. Paragraph (a) states. “If, based on the information in the combined document (101.52(d)), the Responsible Official determines that the environmental consequences of the proposal will not have a significant effect on the human environment, the finding and reasons for it must be stated in a finding of no significant impact.”

Paragraph (b) describes the content of a finding of no significant impact by stating that a finding of no significant impact is combined with the stewardship register and environmental assessment. The paragraph concludes with a statement that if such a finding cannot be made, or it is otherwise desirable, the Responsible Official may cancel, modify, or postpone the proposal while additional information is made available, or issue a notice of intent that an environmental impact statement will be prepared and considered.

Paragraphs (c) and (d) describe the content of a finding of no significant impact and the procedures for public review.

This section concludes with paragraph (e) that is a requirement that the Responsible Official must use the factors of “significantly” as defined in 40 CFR 1508.27 for the determination that a proposal will have no significant effect on the human environment.

101.6 Categorical Exclusions. Reviewers offered several thoughtful comments regarding the description of categorical exclusions. Paragraphs (a), (b), and (c) are rewritten to respond to several of these comments to clarify the description of categorical exclusions.

The text in (a) is revised to read. “In the absence of extraordinary circumstances, the Responsible Official may undertake the stewardship actions in (c) without preparation of an environmental document.

Paragraph (b) is revised to read. “Extraordinary circumstances include, but are not limited to: Scientific controversy; high level of public interest; extreme weather or climatic conditions; or the potential for effects on environmental resources of critical concern such as cultural resource sites and habitat for candidate, endangered, or threatened species.

Paragraph (c) is rewritten to read. “In the absence of extraordinary circumstances, the following stewardship actions may be undertaken, provided that no more than 1320 feet of road or trail construction is required to implement the stewardship action: * * *”. Based on reviewer comments to better quantify the categories listed in the proposed procedures, a requirement that the categorical exclusions may not include more than 1320 feet of road or trail construction is added. The list of categorical exclusions with the revisions made to improve the description and use of each category as well as correct minor errors follows:

“(1) Policy development, planning and implementation which relate to routine activities, such as personnel, organizational change, record management, internal communication, financial management, or similar administrative functions;

(2) Procurement of equipment and supplies consistent with federal environmental policies and direction;

(3) Closures or other orders issued for durations of less than one year to provide resource protection or to protect public health and safety;

(4) Location and maintenance of landline boundaries and geographic sites;

(5) Routine repair and maintenance of facilities and administrative sites including, but not limited to, buildings, fences, water systems, roads, trails, signs, and ancillary facilities associated with the administration and management of the Preserve, or the installation, and routine repair and maintenance of removable communication facilities of not more than 250 square feet, the primary purpose of which is to facilitate communication associated with the administration and management of the Preserve;

(6) Use and care for horses or other stock for administrative purposes that is clearly limited in context and intensity;

(7) Repair and maintenance of recreation sites;

(8) Reconstruction or maintenance of utilities within a designated corridor;

(9) Inventories, research activities, and studies, such as resource inventories and routine data collection when such actions are clearly limited in context and intensity;

(10) Implementation or modification of minor management practices such as the placement of salt blocks, temporary fencing, and the placement of temporary water tanks to improve range conditions and/or animal distribution;

(11) Treatment of forest structure and fuel conditions for the purpose of reducing the hazard of large, stand-replacing crown fires in areas where such high severity fires are outside an historic range of variability. Projects under this category are limited to an aggregate area in the Preserve of no more than 640 acres in a calendar year, and may involve prescribed fire and/or the removal of live trees, the diameter of which will be:

(A) No larger than nine inches at breast height; or

(B) Determined by publicly available site-specific size class information used to define an appropriate diameter and basal area distribution of trees to be removed;

(12) Removal of brush or hazard trees near roads or buildings, where such action is necessary to protect historic structures or the health and safety of the public and/or employees, and when such action is clearly limited in context and intensity; and

(13) Authorizing seasonal or short-term backcountry recreation or special use actions such as: Day-use hiking; wildlife observation; educational field trips; and other small group activities.”

101.7 Public Involvement. The procedures for engaging the public in the consideration of a proposed stewardship action are presented in paragraphs (a) through (f) of this section. Paragraph (a) states. “Opportunities for the public to provide input and maintain a dialogue with the Trust regarding a proposed stewardship action may be triggered by a combination of notice through appropriate media, public meetings, targeted outreach, agency consultation, scoping, and public review of relevant documents.”

Paragraph (b) states that the Trust will identify the appropriate stages during the consideration of a proposed stewardship action, and for specific forms of public review and input to the Responsible Official. For stewardship actions involving natural and cultural resources of the Preserve, the Responsible Official will notify the public that the stewardship action is being proposed, and that a stewardship register is available for review. The Trust will take into account public input received at this stage of the proposal to help determine the appropriate goals, objectives, and performance requirements that will guide further development of the proposed stewardship action.

Paragraph (c) explains that the public's reaction to a proposed stewardship action will be “taken fully into account” in planning for the appropriate level of public involvement throughout the decisionmaking process. The term “critical” is replaced in the text by “taken fully into account”. Based on reviewer comments, it is emphasized here that the Responsible Official should act on the comments received, not just consider the comments to be critical. The term “throughout the rest of the NEPA process” is replaced with “throughout the decisionmaking process” to emphasize that public reaction and comment is important in developing appropriate environmental evaluation and documentation as well as in the overall decisionmaking process of the Trust. The public's reaction to a proposal will also help determine the extent to which the Trust develops alternatives to a proposed action.

Paragraph (d) has the requirement that all proposed stewardship actions involving the lands, resources, and facilities of the Preserve will require authorization by the Board of Trustees at a public meeting, during which public comments will be recorded and considered.

Several comments were received regarding paragraph (e). Some reviewers said that the proposed procedures did specify an adequate time for review of an environmental assessment and that specific time periods should be set. Trust staff and others acknowledged that some flexibility is needed for pubic reviews based on the nature and extent of a proposed stewardship action. Paragraph (e) is reworded and an additional paragraph (f) is added to the text of this section. The text for (e) now reads. “The Trust will provide a reasonable time period for public review and comment on an environmental assessment based on the complexity and nature of the proposed stewardship action and public comment received.

Paragraph (f) is added to clarify necessary actions in emergency situations. Paragraph (f) states. “If the Responsible Official determines that an emergency circumstance exists requiring immediate implementation of a proposal, the Chair of the Board of Trustees may reduce or eliminate the time period for public review and comment on an environmental assessment. If the Responsible Official proposes to respond to an emergency with an action that would normally require preparation of an environmental impact statement, the Chair of the Board of Trustees will immediately contact the Council on Environmental Quality to invoke the procedures under 40 CFR 1506.11.” This addition to the procedures is intended to be responsive to the comments from reviewers and provide for needed response to an emergency.

101.8 Making and Recording an Implementing Decision. This section of the procedures contains three requirements in paragraphs (a), (b), and (c) regarding making and recording an implementing decision for a proposed stewardship action. The section begins with paragraph (a) that states the Responsible Official may make an implementing decision to authorize a stewardship action after completion of 101.5 and compliance with the listed conditions.

Paragraph (b) requires signature of the Responsible Official and date of the implementing decision.

Paragraph (c) has a provision for making minor corrections or adjustments to stewardship actions to improve efficiency, correct minor errors, or otherwise improve performance, if and only if, the three listed criteria are fulfilled.

101.9 Monitoring Outcomes and Considering New Information. This section describes the steps necessary to ensure that new information is considered and, if relevant to on-going or planned stewardship actions, appropriately acted upon by the Responsible Official. Paragraph (a) requires the Responsible Official to evaluate each monitored outcome identified in a stewardship register. As information from monitoring is obtained and interpreted, conclusions are to be recorded in the appropriate stewardship register by the responsible Trust staff.

Paragraph (b) is a requirement for the Responsible Official to consider new information and the influence that information may have upon on-going or completed stewardship actions.

101.10 The Comprehensive Management of the Preserve. To more accurately describe the contents of this section, the title is changed from “Preparing and Approving the Comprehensive Management Program” that appeared in the proposed procedures. This final section of the procedures is rewritten to more adequately describe the comprehensive management of the Preserve and the relationship of strategic guidance, the State of the Preserve, stewardship registers, and their roles in fostering adaptive management.

Paragraph (a) is changed to read. “The comprehensive management of the lands, resources, and facilities of the Preserve includes all stewardship registers, the State of the Preserve, and the strategic guidance adopted by the Board of Trustees.” These documents depict the management of the Preserve and provide timely references for interested citizens.”

Paragraph (b) as rewritten states. “At least once every five years after August 2, 2002, the Board of Trustees must review the goals adopted in strategic guidance and the State of the Preserve. Based on the reviews of the goals and the State of the Preserve, the Board of Trustees may remove, amend, or continue the goals of the Preserve, and/or adopt one or more additional goals.” Reviewers requested that the procedures establish a means to evaluate the long-term goals of strategic guidance and avoid altering goals without consideration of the overall natural and social environments within and adjacent to the Preserve. The requirement in (b) ensures that at least once every five years from the date the Board assumed management of the Preserve, the Board must review the goals of strategic guidance and the State of the Preserve before removing, amending, continuing, and/or adopting one or more additional goals.

Paragraph (c) is rewritten to read. “The Board of Trustees may remove, amend, and/or adopt one or more additional goals only after completing reviews of the goals adopted in strategic guidance and a current State of the Preserve.” This requirement is added to ensure that the Board may at any time add, amend, or remove one or more goals of strategic direction, but only after review of all goals and a current State of the Preserve. This requirement responds to requests to establish clear requirements that the long-term goals of strategic guidance receive careful consideration in a broad and comprehensive context before revision by the Board of Trustees.

Exhibit I Stewardship Register. This exhibit concludes the procedures. Minor changes are made in the description of the stewardship register. The description of the purpose and need is reworded to read. “Concisely explain why the stewardship action is proposed and the goal(s) sought.” This improvement was also made in the 101.2, Terminology, to point out that the purpose and need for a proposed stewardship action should include the one or more goals sought through the action proposed.

The description of the integrated environmental document is rewritten to read. “Integrate the environmental document or, if a categorical exclusion is used, cite the category.” This change is made based on reviewer comments to specifically cite the category if a categorical exclusion from the preparation of an environmental document is appropriate for the stewardship action under consideration.

The text of the procedures follows:

Valles Caldera Trust—National Environmental Policy Act Procedures for the Valles Caldera National Preserve

Contents

100 Authority and Purpose

100.1 Authority

100.2 Purpose

101 Integration of NEPA with Planning and Decisionmaking of the Trust

101.1 Purposes and Principles

101.2 Terminology

101.3 Overall Procedures

101.4 Proposing a Stewardship Action and Following its Progress

101.5 Environmental Evaluation and Documentation

101.51 Environmental Impact Statement

101.52 Environmental Assessment

101.53 Finding of No Significant Impact

101.6 Categorical Exclusions

101.7 Public Involvement

101.8 Making and Recording an Implementing Decision

101.9 Monitoring Outcomes and Considering New Information

101.10 The Comprehensive Management of the Preserve

100 Authority and Purpose

100.1 Authority. The National Environmental Policy Act of 1969 (NEPA), Pub. L. 91-190, the Environmental Quality Improvement Act of 1970, as amended (42 U.S.C. 4371 et seq.), sec. 309 of the Clean Air Act, as amended (42 U.S.C. 7609), E.O. 11514, Mar. 5, 1970, as amended by E.O. 11991, May 24, 1977, CEQ regulations at 40 CFR parts 1500 though 1508, and The Valles Caldera Preservation Act, Pub. L. 106-248.

100.2 Purpose. To implement the comprehensive management of the lands, resources, and facilities of the Valles Caldera National Preserve and achieve the purposes of NEPA, it is necessary and appropriate to establish these procedures. It is the intent of the Trust and managers of the Preserve to:

(a) Integrate the principles and requirements of NEPA with the planning and decisionmaking processes of the Trust;

(b) Implement these procedures to make the NEPA process more useful to decisionmakers and citizens by eliminating unwanted paperwork and utilizing a wide variety of means to gain understanding of the human environment and natural resources of the Preserve and communicate this to the public;

(c) Ensure that environmental information is readily available in a variety of useful forms to decisionmakers and citizens before decisions are made, and ensure that environmental information is utilized to guide adaptive management during and after actions are taken; and

(d) Adopt these procedures in supplement to the regulations at 40 CFR parts 1500 through 1508, referred to as the CEQ regulations for implementing the procedural provisions of the NEPA.

101 Integration of NEPA with Planning and Decisionmaking of the Trust

101.1 Purposes and Principles

(a) The findings of Congress (Public Law 106-248, Title I, section 102) describe the unique character of the Valles Caldera. The purposes for management of the Preserve and the management authorities of the Valles Caldera Trust are described in Title I, section 105 and section 106 of Public Law 106-248. The comprehensive management of the lands, resources, and facilities of the Preserve is achieved through strategic guidance and stewardship actions authorized by the Trust's Board of Trustees.

(b) Citizens play a vital role in the overall management, use, and enjoyment of the Preserve.

(c) Monitoring and evaluation of stewardship actions, research, and detailed studies provide the public and the Trust with the basis for adapting on-going and future stewardship actions to achieve the goals of the Trust and the requirements of NEPA.

(d) Stewardship of the Preserve addresses all programs of the Preserve with the recognition that the whole is greater than the sum of the parts. Management of the Preserve is guided by the following management principles describing the values of the Trust and vision adopted by Board of Trustees on December 13, 2001:

(1) We will administer the Preserve with the long view in mind, directing our efforts toward the benefit of future generations;

(2) Recognizing that the Preserve imparts a rich sense of place and qualities not to be found anywhere else, we commit ourselves to the protection of its ecological, cultural, and aesthetic integrity;

(3) We will strive to achieve a high level of integrity in our stewardship of the lands, programs, and other assets in our care. This includes adopting an ethic of financial thrift and discipline and exercising good business sense;

(4) We will exercise restraint in the implementation of all programs, basing them on sound science and adjusting them consistent with the principles of adaptive management;

(5) Recognizing the unique heritage of northern New Mexico's traditional cultures, we will be a good neighbor to surrounding communities, striving to avoid negative impacts from Preserve activities and to generate positive impacts;

(6) Recognizing the religious significance of the Preserve to Native Americans, the Trust bears a special responsibility to accommodate the religious practices of nearby tribes and pueblos, and to protect sites of special significance;

(7) Recognizing the importance of clear and open communication, we commit ourselves to maintaining a productive dialogue with those who would advance the purposes of the Preserve and, where appropriate, to developing partnerships with them;

(8) Recognizing that the Preserve is part of a larger ecological whole, we will cooperate with adjacent landowners and managers to achieve a healthy regional ecosystem;

(9) Recognizing the great potential of the Preserve for learning and inspiration, we will strive to integrate opportunities for research, reflection and education in the programs of the Preserve; and

(10) In providing opportunities to the public we will emphasize quality of experience over quantity of experiences. In so doing, while we reserve the right to limit participation or to maximize revenue in certain instances, we commit ourselves to providing fair and affordable access for all permitted activities.

101.2 Terminology

Adaptive Management. “Adaptive management” means adjusting stewardship actions or strategic guidance based on knowledge gained from new information, experience, experimentation, and monitoring results, and is the preferred method for managing complex natural systems.

Environmental documents. “Environmental documents” include the documents specified in 40 CFR 1508.9 (environmental assessment), 1508.11 (environmental impact statement), 1508.13 (finding of no significant impact), and 1508.22 (notice of intent).

Extraordinary circumstances. “Extraordinary circumstances” means conditions associated with a stewardship action that is normally categorically excluded and recognized as likely to create one or more outcomes that may significantly affect the human environment.

Finding of no significant impact. “Finding of no significant impact” means a document by a Federal agency briefly presenting the reasons why an action, not otherwise excluded (40 CFR 1508.4), will not have a significant effect on the human environment and for which an environmental impact statement therefore will not be prepared. It shall include the environmental assessment or a summary of it and shall note any other environmental documents related to it (40 CFR 1501.7(a)(5)). If the assessment is included, the finding need not repeat any of the discussion in the assessment but may incorporate it by reference (40 CFR 1508.13).

Goal. “Goal” means a desirable condition of the Preserve sought by the Trust and/or a desirable condition as described in Public Law 106-248 or within the management principles adopted by the Trust (101.1(d)).

Human environment. “Human environment” has the same meaning as that described in the CEQ regulations for implementing the procedural provisions of the NEPA. “Human Environment” shall be interpreted comprehensively to include the natural and physical environment and the relationship of people with that environment. (See definition of “effects” in 40 CFR 1508.8.) This means that economic or social effects are not intended by themselves to require preparation of an environmental impact statement. When an environmental impact statement is prepared and economic or social and natural or physical environmental effects are interrelated, then the environmental impact statement will discuss all of these effects on the human environment.

Implementing decision. “Implementing decision” means the authorization by the Responsible Official to implement one or more stewardship actions.

Monitored outcome. “Monitored outcome” means the short-, mid-, or long-term outcome selected for systematic evaluation.

Objective. “Objective” means the desired outcome that can be meaningfully evaluated by location and timing within the Preserve.

Outcome. “Outcome” means the result or consequence of a stewardship action that can be meaningfully evaluated by location and time of occurrence. For purposes of these procedures, this term has the same meaning as impact or effect. For convenience in communication, “outcomes” may be beneficial or detrimental, and are grouped from their date of origin considering their anticipated duration as: Short-term, anticipated to occur over 0 to 3 years; mid-term, anticipated to occur over 3 to 10 years; and long-term, anticipated to occur for 10 years or longer.

Performance requirement. “Performance requirement” means the limitation placed on the implementation of a stewardship action necessary for compliance with applicable laws, regulations, standards, mitigating measures, or generally accepted practices.

Purpose and need. “Purpose and need” means a concise explanation why a stewardship action is being proposed and the goal(s) sought.

Responsible Official. “Responsible Official” means the Executive Director of the Trust and, consistent with delegated authority, the Preserve Manager and other Preserve staff, or the Chair of the Board of Trustees if specifically designated by the Board of Trustees.

State of the Preserve. “State of the Preserve” means a concise account of the systematic review of monitored outcomes and interpretive information from, but not limited to, observations, studies, public comment, research investigations, natural resources data or information summaries, and other sources to provide the technical and scientific basis for considering the cumulative effects of the past, present, and reasonably foreseeable future actions of the Trust.

Stewardship action. “Stewardship action” means an activity or group of activities consisting of at least one goal, objective, and performance requirement proposed or implemented by the Responsible Official that may:

(1) Guide or prescribe alternative uses of the Preserve upon which future implementing decisions will be based; or

(2) Utilize or manage the resources of the Preserve.

Stewardship register. “Stewardship register” means a concise document, including applicable environmental documents, available to the public and readily amended over time depicting the location, development, implementation, and monitoring of a stewardship action.

Strategic guidance. “Strategic guidance” means adoption by the Board of Trustees of one or more of the following elements:

(a) One or more goals for all or a portion of the Preserve; or

(b) Direction to the Responsible Official to consider one or more stewardship actions or an administrative matter related to the operation of the Preserve.

101.3 Overall Procedures

(a) The Trust achieves comprehensive management of the Preserve by adopting strategic guidance and selecting and implementing appropriate stewardship actions. It is the intent of the Trust to maintain open and collaborative working relationships among all interested and affected citizens, Tribal governments, federal and state agencies, and others during the consideration, implementation, and monitoring of all stewardship actions. Information regarding stewardship actions is recorded within stewardship registers that are available to the public in accordance with applicable law.

(b) The Responsible Official may propose a stewardship action only if it is consistent with strategic guidance and is accompanied by a clear statement of its purpose and need.

(c) Based on the known or suspected outcomes of a stewardship action, or for other reasons, the Responsible Official may prepare an environmental document to improve understanding and to assist in making an implementing decision. The outcomes of implemented stewardship actions are monitored to aid future choices, consistent with the adaptive management.

(d) The Trust must prepare the State of the Preserve at least once every five years after August 2, 2002. The State of the Preserve provides a technical and scientific basis for the comprehensive management of the Preserve and aids the consideration of goals within strategic guidance that may be adopted by the Board of Trustees

(e) The on-going review of monitored outcomes, public dialog, and the interpretation of evolving natural and social environments aids the Trust and others in the consideration of the purpose and need for necessary and appropriate stewardship actions within the Preserve. The overall procedures are intended to efficiently and effectively achieve the goals of the Trust and NEPA and eliminate unnecessary or redundant paperwork.

101.4 Proposing a Stewardship Action and Following its Progress

(a) When a stewardship action is proposed and its purpose and need is described by the Responsible Official and authorized for continued consideration by the Board of Trustees, the stewardship register (Exhibit I) will be made available to the public through appropriate media as soon as practicable and throughout the process, leading either to termination of the proposal or to an implementing decision. The stewardship register will also, as relevant, contain information regarding completion of the stewardship action and monitoring of one or more outcomes.

(b) The public and government officials are provided many opportunities to review the activities of the Trust. The Responsible Official will request public review and comment on a proposed stewardship action, its purpose and need, alternatives, and/or anticipated outcomes as described in 101.7. If comments are requested and received within the dates specified, the Responsible Official must consider the comments before making an implementing decision.

(c) As information in the stewardship register is amended, the date and nature of the change to the stewardship register and name of the person transcribing the amended information must be recorded to provide an accurate record. The Trust may prepare and use documents or appropriate electronic media depicting administrative operations to aid the planning, execution, and record keeping of stewardship actions or for other purposes.

(d) To further the purposes of the Trust and NEPA, the Executive Director of the Trust is responsible for overall review of agency NEPA compliance and preparation of any necessary environmental documents.

101.5 Environmental Evaluation and Documentation

(a) An environmental document must be prepared and considered before the Responsible Official can make an implementing decision unless a stewardship action is within a categorical exclusion listed in 101.6.

(b) The Responsible Official, in the absence of extraordinary circumstances, may make an implementing decision without the preparation of an environmental document for those stewardship actions that do not individually or cumulatively have a significant effect on the human environment and which have been found to have no such effect.

101.51 Environmental Impact Statement

(a) The Responsible Official must prepare and consider an environmental impact statement as described in 40 CFR 1502 if the outcome of a proposed stewardship action may create a significant impact on the human environment or it is otherwise desirable.

(b) An implementing decision for one or more stewardship actions under review in an environmental impact statement must be documented in a record of decision. Except for special circumstances described in CEQ regulations at 40 CFR 1502.9(c), 1506.10(d), and 1506.11, a record of decision cannot be signed by the Responsible Official until 30 days after the final environmental impact statement is made available to the public by the Environmental Protection Agency. The final environmental impact statement and record of decision, if completed, is integrated with one or more appropriate stewardship registers.

(c) An environmental impact statement is normally required for the following implementing decisions:

(1) One or more stewardship actions that may be significant as described in 40 CFR 1508.27. Examples include, but are not limited to, long-term programs or plans for:

(A) Management of livestock grazing;

(B) Transportation;

(C) Management of forests and harvest of forest-related products; and

(D) Management of public recreation.

(2) Construction and operation of a visitor center with associated public access to the Preserve.

101.52 Environmental Assessment

(a) An environmental assessment is prepared by the Responsible Official to aid in determining whether to prepare an environmental impact statement, to prepare a finding of no significant impact, to otherwise aid compliance with NEPA, or to facilitate preparation of an environmental impact statement when one is necessary.

(b) The environmental assessment of one or more stewardship actions is combined with one or more relevant stewardship registers to create a concise document or set of documents that describe one or more stewardship actions and alternatives that meet the identified purpose and need. The environmental analysis of the proposed stewardship action and alternatives is integrated with one or more stewardship registers (40 CFR 1506.4).

(c) The purpose of the integrated information is to study, develop, and describe appropriate alternatives to recommended courses of action in any proposal, which involves unresolved conflicts concerning alternative uses of available resources.

(d) The combined document includes a brief discussion of the purpose and need for the proposal, of alternatives, of the environmental impacts of the proposal and alternatives, and a listing of agencies and persons consulted.

(e) The following stewardship actions within the Preserve and authorized by the Responsible Official in an implementing decision are normally accompanied by an environmental assessment:

(1) Establishing or substantively revising a program or policy for the permitting of seasonal or short-term backcountry recreation or special use actions which could potentially create minor ground disturbance;

(2) Establishing an integrated program of scientific investigations utilizing land, resources, and facilities of the Preserve where the effects of performing the investigations within the Preserve are anticipated to be short-term and minor in scope;

(3) Livestock management actions utilizing land, resources, and facilities of the Preserve, defined in location and time, the effects of which are anticipated to be short-term and minor in scope.

(4) Forest treatments, which may include the removal of trees or managed fire, designed to establish or enhance stand characteristic trends toward or into an historic range of variability affecting a clearly defined segment of the forested land or a specified forest type within the Preserve; and

(5) Reconstruction, repair, and use of roadways and trails, and construction of minor trail segments within the Preserve which are not anticipated to significantly alter the magnitude and frequency of anticipated use.

101.53 Finding of No Significant Impact

(a) If, based on the information in the combined document (101.52(d)), the Responsible Official determines that the environmental consequences of the proposal will not have a significant effect on the human environment, the finding and reasons for it must be stated in a finding of no significant impact (FONSI).

(b) A FONSI is combined with the stewardship register and environmental assessment. If such a finding cannot be made, or it is otherwise desirable, the Responsible Official may cancel, modify, or postpone the proposal while additional information is made available, or issue a notice of intent that an environmental impact statement will be prepared and considered.

(c) The FONSI itself need not be detailed, but must succinctly state the reason for deciding that the action will have no significant environmental effects, and, if relevant, must show which factors were weighted most heavily in the determination. In addition to this statement, the FONSI must include or attach and incorporate by reference, the environmental assessment.

(d) The Responsible Official may seek public review of a FONSI before making an implementing decision. In some circumstances, the Responsible Official must make the FONSI available for public review (including state and area-wide clearinghouses) for 30 days before the Responsible Official makes a final determination whether to prepare an environmental impact statement and before the action may begin. The circumstances are:

(1) The proposed action is, or is closely similar to, one which normally requires the preparation of an environmental impact statement under the Trust's procedures; or

(2) The nature of the proposed action is one without precedent.

(e) The Responsible Official must use the factors of “significantly” as described in 40 CFR 1508.27 for the determination that a proposal will have no significant impact on the human environment.

101.6 Categorical Exclusions

(a) In the absence of extraordinary circumstances, the Responsible Official may undertake the stewardship actions in (c) without preparation of an environmental document.

(b) Extraordinary circumstances include, but are not limited to: Scientific controversy; high level of public interest; extreme weather or climatic conditions; or the potential for effects on environmental resources of critical concern such as cultural resource sites and habitat for candidate, endangered, or threatened species.

(c) In the absence of extraordinary circumstances, the following stewardship actions may be undertaken, provided that no more than 1320 feet of road or trail construction is required to implement the stewardship action:

(1) Policy development, planning and implementation which relate to routine activities, such as personnel, organizational change, record management, internal communication, financial management, or similar administrative functions;

(2) Procurement of equipment and supplies consistent with federal environmental policies and direction;

(3) Closures or other orders issued for durations of less than one year to provide resource protection or to protect public health and safety;

(4) Location and maintenance of landline boundaries and geographic sites;

(5) Routine repair and maintenance of facilities and administrative sites including, but not limited to, buildings, fences, water systems, roads, trails, signs, and ancillary facilities associated with the administration and management of the Preserve, or the installation, and routine repair and maintenance of removable communication facilities of not more than 250 square feet, the primary purpose of which is to facilitate communication associated with the administration and management of the Preserve;

(6) Use and care for horses or other stock for administrative purposes that is clearly limited in context and intensity;

(7) Repair and maintenance of recreation sites;

(8) Reconstruction or maintenance of utilities within a designated corridor;

(9) Inventories, research activities, and studies, such as resource inventories and routine data collection when such actions are clearly limited in context and intensity;

(10) Implementation or modification of minor management practices such as the placement of salt blocks, temporary fencing, and the placement of temporary water tanks to improve range conditions and/or animal distribution;

(11) Treatment of forest structure and fuel conditions for the purpose of reducing the hazard of large, stand-replacing crown fires in areas where such high severity fires are outside an historic range of variability. Projects under this category are limited to an aggregate area in the Preserve of no more than 640 acres in a calendar year, and may involve prescribed fire and/or the removal of live trees, the diameter of which will be:

(A) No larger than nine inches at breast height; or

(B) Determined by publicly available site-specific size class information used to define an appropriate diameter and basal area distribution of trees to be removed;

(12) Removal of brush or hazard trees near roads or buildings, where such action is necessary to protect historic structures or the health and safety of the public and/or employees, and when such action is clearly limited in context and intensity; and

(13) Authorizing seasonal or short-term backcountry recreation or special use actions such as: Day-use hiking; wildlife observation; educational field trips; and other small group activities.

101.7 Public Involvement.

(a) Opportunities for the public to provide input and maintain a dialogue with the Trust regarding a proposed stewardship action may be triggered by a combination of notice through appropriate media, public meetings, targeted outreach, agency consultation, scoping, and public review of relevant documents.

(b) In the preparation of a stewardship register, the Trust will identify the appropriate stages during the process leading up to a decision, and if the decision is to go forward with an action, the implementation of that decision, where specific forms of public review and input will be most useful and informative to the Responsible Official.

(1) For stewardship actions involving natural and cultural resources of the Preserve, the Responsible Official will notify the public that the stewardship action is being proposed, and that a stewardship register is available for review.

(2) The Trust will take into account public input received at this stage of the proposal to help determine the appropriate goals, objectives, and performance requirements that will guide further development of the proposed stewardship action.

(c) The public's reaction to a proposed stewardship action will be taken fully into account in planning for the appropriate level of public involvement throughout the decisionmaking process. The public's reaction will also help determine the extent to which the Trust develops alternatives to the proposed action.

(d) All proposed stewardship actions involving the management of the lands, resources, and facilities of the Preserve will require authorization by the Board of Trustees at a public meeting, during which public comments will be considered and recorded.

(e) The Trust will provide a reasonable time period for public review and comment on an environmental assessment based on the complexity and nature of the proposed stewardship action and public comment received.

(f) If the Responsible Official determines that an emergency circumstance exists requiring immediate implementation of a proposal, the Chair of the Board of Trustees may reduce or eliminate the time period for public review and comment on an environmental assessment. If the Responsible Official proposes to respond to an emergency with an action that would normally require preparation of an environmental impact statement, the Chair of the Board of Trustees will immediately contact the Council on Environmental Quality to invoke the procedures under 40 CFR 1506.11.

101.8 Making and Recording an Implementing Decision

(a) The Responsible Official may make an implementing decision to authorize a stewardship action after completion of 101.5, if and only if:

(1) The available information regarding the purpose and need for the proposal and the anticipated outcomes are suitable; and

(2) At least one monitored outcome is identified in the stewardship register.

(b) The implementing decision must be recorded in the stewardship register by signature of the Responsible Official and dated.

(c) After an implementing decision for one or more stewardship actions is made, minor corrections or adjustments to the stewardship action to improve efficiency, correct minor errors, or otherwise improve performance may be made by the responsible Trust staff, if and only if:

(1) The corrections or adjustments do not significantly alter the nature or extent of the stewardship action or its goals, objectives, or performance requirements;

(2) The anticipated consequences of the stewardship action remain essentially the same as those described in the relevant environmental documents; and

(3) Such minor corrections or adjustments are recorded in the appropriate stewardship register as described in 101.4(c).

101.9 Monitoring Outcomes and Considering New Information

(a) The Responsible Official must evaluate each monitored outcome identified in the stewardship register. As information from monitoring is obtained and interpreted, conclusions are to be recorded in the appropriate stewardship register by the responsible Trust staff.

(b) If, based on monitoring conclusions or other new information available to the Responsible Official, the observed outcomes of stewardship actions described in one or more stewardship registers as amended differ significantly from those anticipated or if new information has a meaningful bearing on the anticipated consequences of one or more stewardship actions, the Responsible Official must consider such information and:

(1) Consider the preparation or supplementation of an environmental document as described in 101.5 and CEQ regulations;

(2) If appropriate, propose a stewardship action and/or continue, modify, or terminate one or more stewardship actions as described in 101.4; and

(3) Appropriately, amend the stewardship register to incorporate the new information and/or change to the stewardship action or description of consequences in the relevant environmental document.

101.10 The Comprehensive Management of the Preserve

(a) The comprehensive management of the lands, resources, and facilities of the Preserve includes all stewardship registers, the State of the Preserve, and the strategic guidance adopted by the Board of Trustees. These documents depict the management of the Preserve and provide timely references for interested citizens.

(b) At least once every five years after August 2, 2002, the Board of Trustees must review the goals adopted in strategic guidance and the State of the Preserve. Based on the reviews of the goals and the State of the Preserve, the Board of Trustees may remove, amend, or continue the goals of the Preserve, and/or adopt one or more additional goals.

(c) The Board of Trustees may remove, amend, and/or adopt one or more additional goals only after completing reviews of the goals adopted in strategic guidance and a current State of the Preserve.

Exhibit I— Stewardship Register

Descriptive name of Stewardship

File Number:

Target Start Date:

Actual Start Date:

Target Completion Date:

Actual Completion Date:

Location: Identify the location of the stewardship action in the Preserve in a readily accessible and understandable form.

Purpose and Need: Concisely explain why the stewardship action is proposed and the goal(s) sought.

Description: Describe the stewardship action and, through appropriate media, describe the related physical, biological, social, and/or economic environment.

Objective: Describe the desired outcome of the stewardship action in measurable terms including, but not limited to, anticipated quantity, location, and timing.

Performance Requirements: List the performance requirements needed to guide or limit resource use in accomplishment of the objective. A checklist may be used.

Integrate the environmental document or, if a categorical exclusion is used, cite the category.

Agencies and Persons Consulted:

Signature of Responsible Official:

Date Authorized:

Monitored Outcomes: List one or more outcomes that will be meaningfully evaluated after implementation of the stewardship action. Describe the nature, size, and location of each monitored outcome anticipated to occur in the short-, mid-, and/or long-term.

Evaluation of Monitoring Information: As information from monitoring is evaluated, describe conclusions and any new information as guided by 101.7(b).

Dated: July 11, 2003.
William deBuys,
Chairman, Valles Caldera Trust.

[FR Doc. 03-18080 Filed 7-16-03; 8:45 am]

BILLING CODE 3410-11-P